DEPARTMENT OF LABOR

Employment and Training Administration

[TA-W-65,391]

Wilson Sporting Goods Company, Ada, OH; Notice of Termination of Investigation

Pursuant to Section 221 of the Trade Act of 1974, as amended, an investigation was initiated on February 26, 2009 in response to a petition filed by UNITE HERE, Local 224 on behalf of workers of Wilson Sporting Goods Company, Ada, Ohio.

The petitioner has requested that the petition be withdrawn. Therefore, the investigation under this petition has been terminated.

Signed at Washington, DC, this 24th day of March, 2009.
Linda G. Poole,
Certifying Officer, Division of Trade Adjustment Assistance.

[FR Doc. E9-8289 Filed 4-10-09; 8:45 am]

BILLING CODE 4510-FN-P